DEPARTMENT OF LABOR

Employment and Training Administration

[TA-W-41,574]

Agere Systems, Infrastructre Division, Breinigsville, PA; Notice of Termination of Investigation

Pursuant to section 221 of the Trade Act of 1974, an investigation was initiated on May 20, 2002, in response to a petition filed on behalf of workers at Agere Systems, Infrastructure Division, Breinigsville, Pennsylvania.

The petition has been deemed invalid. The petitioning group of three workers did not have the necessary three signatures sufficient to constitute a valid petition. Consequently, further investigation in this case would serve no purpose, and the investigation has been terminated.

Signed at Washington, DC, this 20th day of August, 2002.
Richard Church,
Certifying Officer, Division of Trade Adjustment Assistance.

[FR Doc. 02-24114 Filed 9-20-02; 8:45 am]

BILLING CODE 4510-30-P